DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Current Industrial Reports, Wave III.

Form Number(s): Various.

Agency Approval Number: 0607-0476.

Type of Request: Revision of a currently approved collection.

Burden: 13,998 hours.

Number of Respondents: 9,749.

Avg Hours Per Response: 51 minutes.

Needs and Uses: The U.S. Census Bureau is requesting a revision of the mandatory and voluntary surveys in Wave III of the Current Industrial Reports (CIR) program. The Census Bureau conducts a series of monthly, quarterly, and annual surveys as part of the CIR program. The CIR program focuses primarily on the quantity and value of shipments data of particular products and occasionally with data on production and inventories; unfilled orders, receipts, stocks and consumption; and comparative data on domestic production, exports, and imports of the products they cover.

Due to the large number of surveys in the CIR program, for clearance purposes, the CIR surveys are divided into “waves.” One wave is resubmitted for clearance each year. This year the Census Bureau is submitting the mandatory and voluntary surveys of Wave III for clearance.

Three surveys currently contained in other CIR waves, MA334B, “Selected Instruments and Related Products”, MA334S, “Electromedical Equipment and Irradiation Equipment”, and MA335A, “Switchgear, Switchboard Apparatus, Relays, and Industrial Controls,” will be discontinued and four new surveys will be created in their place. These four new surveys will be added to this wave. They are MA334A, “Analytical and Biomedical Instruments”, MA334C, “Control Instruments”, MA334D, “Defense, Navigational and Aerospace Electronics”, and MA334T “Meters and Test Devices”. We are moving the following surveys from another wave into this wave because of changes in survey content. They are MA334M, “Consumer Electronics” and MA334Q, “Semiconductors, Printed Circuit Boards, and Electronic Components” (will be renamed to “Electronic Components”). After a comprehensive review of the entire CIR program, we decided to eliminate a number of lower priority surveys including MQ313D, “Consumption on the Woolen System”, MA315D, “Gloves and Mittens”, and MA335L, “Electric Light Fixtures”. We are also renaming two surveys in this wave to reflect the substantial changes in their level of detail. They are MA334P, “Communication Equipment” to “Telecommunications” and MA334R, “Computers and Office and Accounting Machines” to “Computers”.

In 2006, we will change the frequency of collection of MA334P, “Telecommunications” and MA334R, “Computers” from annual surveys to quarterly surveys. This was requested by one of our primary data users, the Federal Reserve Board (FRB). Technology is changing so quickly in the areas covered by these surveys that annual collections do not provide the immediacy of information needed by the FRB. We are reducing the amount of detail collected in these areas to facilitate the more frequent collection. The reduced detail will be introduced in 2005 although the quarterly collection will not begin until 2006. The quarterly collection will be voluntary with an annual mandatory counterpart which will be sent only to those respondents electing not to participate in the more frequent collection.

Primary users of these data are government and regulatory agencies, business firms, trade associations, and private research and consulting organizations. The Federal Reserve Board uses CIR data in its monthly index of industrial production as well as its annual revision to the index. The Bureau of Economic Analysis (BEA) and the Bureau of Labor Statistics (BLS) use the CIR data in the estimate of components of gross domestic product (GDP) and the estimate of output for productivity analysis, respectively. Many government agencies, such as the International Trade Commission, Department of Agriculture, Food and Drug Administration, Department of Energy, Federal Aviation Administration, BEA, and International Trade Administration use the data for industrial analysis, projections, and monitoring import penetration. Private business firms and organizations use the data for trend projections, market analysis, product planning, and other economic and business-oriented analysis. Since the CIR program is the sole, consistent source of information regarding specific manufactured products in the intercensal years, the absence thereof would severely hinder the Federal Government's ability to measure and monitor important segments of the domestic economy, as well as the effect of import penetration.

Affected Public: Business or other for-profit.

Frequency: Wave III contains surveys conducted monthly and annually.

Respondent's Obligation: The CIR program contains surveys that are mandatory and voluntary.

Legal Authority: Title 13 U.S.C., Sections 61, 182, 224, and 225.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: July 25, 2005.
Madeleine Clayton,
Management Analyst, Office of the Chief Information Officer.

[FR Doc. 05-14989 Filed 7-28-05; 8:45 am]

BILLING CODE 3510-07-P